DEPARTMENT OF HOMELAND SECURITY

Federal Emergency Management Agency

44 CFR Part 65

[Docket ID FEMA-2008-0020; Internal Agency Docket No. FEMA-B-1042]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison | Unincorporated areas of Madison County (09-04-0502P) | February 6, 2009; February 13, 2009; Madison County Record | The Honorable Mike Gillespie, Chairman, Madison County Commission, 6994 Courthouse 700, 100 Northside Square, Huntsville, AL 35801 | June 15, 2009 | 010151
Arkansas: Craighead | City of Jonesboro (07-06-2616P) | August 11, 2008; August 18, 2008;The Jonesboro Sun | The Honorable Doug Forman, Mayor, City of Jonesboro, 515 West Washington Avenue, Jonesboro, AR 72401 | December 16, 2008 | 050048
Colorado:
Boulder | City of Boulder (08-08-0790P) | February 6, 2009; February 13, 2009; The Daily Camera | The Honorable Shaun McGrath, Mayor, City of Boulder, P.O. Box 791, Boulder, CO 80306 | January 28, 2009 | 080024
Boulder | Unincorporated areas of Boulder County (08-08-0790P) | February 6, 2009; February 13, 2009; The Daily Camera | The Honorable Ben Pearlman, Chairman, Boulder County Board of Commissioners, P.O. Box 471 Boulder, CO 80306 | January 28, 2009 | 080023
Connecticut: New Haven | Town of Hamden (08-01-0419P) | July 24, 2008; July 31, 2008; New Haven Register | The Honorable Craig Henrici, Mayor, Town of Hamden, Town Hall, 2750 Dixwell Avenue, Hamden, CT 06518 | July 30, 2008 | 090078
Florida
Miami-Dade | City of Miami (08-04-6874P) | February 9, 2009; February 16, 2009; Miami Herald | The Honorable Manual A. Diaz, Mayor, City of Miami, 3500 Pan American Drive, Miami, FL 33133-5595 | January 30, 2009 | 120650
Pinellas | City of Clearwater (08-04-6704P) | February 6, 2009; February 13, 2009; St. Petersburg Times | The Honorable Frank V. Hibbard, Mayor, City of Clearwater, P.O. Box 4748, Clearwater, FL 33758 | January 28, 2009 | 125096
Georgia:
Liberty | City of Flemington (08-04-4998P) | January 25, 2009; February 1, 2009; Coastal Courier | The Honorable Sandra S. Martin, Mayor, City of Flemington, P.O. Box 46, Hinesville, GA 31310 | June 2, 2009 | 130124
Liberty | City of Hinesville (08-04-4998P) | January 25, 2009; February 1, 2009; Coastal Courier | The Honorable James Thomas, Mayor, City of Hinesville, 115 East Martin Luther King, Jr. Drive, Hinesville, GA 31313 | June 2, 2009 | 130125
Idaho:
Ada | Unincorporated areas of Ada County (08-10-0658P) | February 6, 2009; February 13, 2009; Idaho Statesman | The Honorable Fred Tilman, Chairman, Ada County Board of Commissioners, 200 West Front Street, Boise, ID 83702 | June 15, 2009 | 160001
Ada | City of Meridian (08-10-0658P) | February 6, 2009; February 13, 2009; Idaho Statesman | The Honorable Tammy de Weerd, Mayor, City of Meridian, Meridian City Hall, Suite 300, 33 East Broadway Avenue, Meridian, ID 83702 | June 15, 2009 | 160180
Teton | Unincorporated areas of Teton County (07-10-0061P) | March 20, 2008; March 27, 2009; Teton Valley News | The Honorable Larry Young, Chairman, Teton County Board of Commissioners, P.O. Box 756, Driggs, ID 83422 | March 13, 2008 | 160230
Teton | Unincorporated areas of Teton County (07-10-0770P) | May 8, 2008; May 15, 2008; Teton Valley News | The Honorable Larry Young, Chairman, Teton County Board of Commissioners, P.O. Box 756, Driggs, ID 83422 | September 12, 2008 | 160230
Iowa: Dubuque | Unincorporated areas of Dubuque County (08-07-0804P) | February 6, 2009; February 13, 2009; Telegraph Herald | The Honorable Donna Smith, Supervisor, Dubuque County Board of Supervisors, 720 Central Avenue, Dubuque, IA 52001 | June 15, 2009 | 190534
Maine: Cumberland | Town of Falmouth (09-01-0124P) | February 6, 2009; February 13, 2009; Portland Press Herald | The Honorable William Armitage, Chair, Falmouth Town Council, 271 Falmouth Road, Falmouth, ME 04105 | June 15, 2009 | 230045
Missouri: Clay, Platte, and Jackson | City of Kansas City (08-07-0725P) | February 12, 2009; February 19, 2009; The Daily Record | the Honorable Mark W. Funkhouser, Mayor, City of Kansas City, City Hall, 29th Floor, 414 East 12th Street, Kansas City, MO 64106 | June 19, 2009 | 290173
New Mexico: Sandoval | City of Rio Rancho (08-06-3060P) | February 6, 2009; February 13, 2009; The Albuquerque Journal | The Honorable Thomas E. Swisstack, Mayor, City of Rio Rancho, 3200 Civic Center Circle Northeast, Rio Rancho, NM 87144 | June 15, 2009 | 350146
Pennsylvania: Lehigh | Township of Upper Macungie (08-03-1442P) | February 6, 2009; February 13, 2009; The Morning Call | The Honorable Edward Earley, Chairman, Upper Macungie Township, 8330 Schantz Rd., Breinigsville, PA 18031 | January 29, 2009 | 421044
Texas:
Brazos | City of Bryan (08-06-2045P) | February 12, 2009; February 19, 2009; Bryan College Station Eagle | The Honorable Mark Conlee, Mayor, City of Bryan, 300 South Texas Avenue, Bryan, TX 77803 | June 19, 2009 | 480082
Collin | City of Frisco (09-06-0212P) | February 6, 2009; February 13, 2009; Frisco Enterprise | The Honorable Maher Maso, Mayor, City of Frisco, 6101 Frisco Square Boulevard, Frisco, TX 75034 | June 15, 2009 | 480134
Guadalupe | City of Cibolo (08-06-2221P) | February 12, 2009; February 19, 2009; Seguin Gazette Enterprise | The Honorable Johnny Sutton, Mayor, City of Cibolo, P.O. Box 826, Cibolo, TX 78108 | June 18, 2009 | 480267
Guadalupe | Unincorporated areas of Guadalupe County (08-06-2221P) | February 23, 2009; February 19, 2009; Seguin Gazette Enterprise | The Honorable Mike Wiggins, Guadalupe County Judge, 307 West Court Street, Seguin, TX 78155 | June 18, 2009 | 480266
Hunt | City of Greenville (08-06-1111P) | July 30, 2008; August 6, 2008; Herald Banner | The Honorable Tom Oliver, Mayor, City of Greenville, P.O. Box 1049, Greenville, TX 75401 | December 4, 2008 | 485473

(Catalog of Federal Domestic Assistance No. 97.022, “Flood Insurance.”)

Dated: March 2, 2009.
Michael K. Buckley,
Acting Assistant Administrator, Mitigation Directorate, Department of Homeland Security, Federal Emergency Management Agency.

[FR Doc. E9-6629 Filed 3-24-09; 8:45 am]

BILLING CODE 9110-12-P